FEDERAL HOUSING FINANCE AGENCY

12 CFR Part 1236

RIN 2590-AB10

Prudential Management and Operations Standards

AGENCY: Federal Housing Finance Agency.

ACTION: Proposed rule; correction.

SUMMARY: The Federal Housing Finance Agency (FHFA) is correcting inadvertent typographical errors in the preamble published in the Federal Register on May 4, 2023, regarding amendments to its regulation governing prudential management and operations standards (the regulation) to correct certain references made to the proposed rule that should have been references to the existing regulation that FHFA is proposing to amend. There are no corrections to the proposed amendments to the regulation text or to the appendix.

DATES: The comments due date remains July 3, 2023.

FOR FURTHER INFORMATION CONTACT: Clinton Jones, General Counsel, (202) 649-3006, Clinton.Jones@fhfa.gov; or Francisco Medina, Assistant General Counsel, (202) 649-3076, Francisco.Medina@fhfa.gov. These are not toll-free numbers. The mailing address is: Federal Housing Finance Agency, 400 Seventh Street SW, Washington, DC 20219. For TTY/TRS users with hearing and speech disabilities, dial 711 and ask to be connected to any of the contact numbers above.

SUPPLEMENTARY INFORMATION:

I. Background

On May 4, 2023, FHFA published in the Federal Register a proposed rule to amend its regulation governing prudential management and operations standards, located at 12 CFR part 1236. See 88 FR 28433. The preamble discussion contains inadvertent typographical errors in reference to the regulation in sections II. and III.E. Sections II, and III.E. of the preamble discussions, therefore, should have referenced “the regulation” instead of “the proposed rule”. There are no corrections to the proposed amendments to the regulation text in 12 CFR 1236 or to its appendix. For additional details on the proposed rulemaking, please see the May 4, 2023, Federal Register publication at 88 FR 28433.

II. Correction of Errors in the Preamble

In the proposed rule document FR Doc. 2023-09320 of May 4, 2023 (88 FR 28433), the following corrections are made:

1. On page 28433, in the right column, second full paragraph, lines 1, 13-14, the phrase “The proposed rule” is corrected to read “The regulation”.

2. On page 28434, in the left column, in the first full paragraph, lines 1, 11, 14, 19-20, 24, the words “proposed rule” are corrected to read “regulation”.

3. On page 28434, in the left column, in the second full paragraph, line 1, the words “proposed rule” are corrected to read “regulation”.

4. On page 28436, in the left column, second full paragraph, line 18, the words “proposed rule” are corrected to read “regulation”.

Sandra L. Thompson,
Director, Federal Housing Finance Agency.

[FR Doc. 2023-11604 Filed 5-31-23; 8:45 am]

BILLING CODE 8070-01-P